DEPARTMENT OF AGRICULTURE

Animal and Plant Health Inspection Service

7 CFR Part 318

[Docket No. APHIS-2007-0052]

RIN 0579-AC70

Revision of the Hawaiian and Territorial Fruits and Vegetables Regulations; Technical Amendment

AGENCY: Animal and Plant Health Inspection Service, USDA.

ACTION: Final rule; technical amendment.

SUMMARY: In a final rule that was published in the Federal Register on January 16, 2009 (74 FR 2770-2786, Docket No. APHIS-2007-0052), and effective on February 17, 2009, we revised the regulations governing the interstate movement of fruits and vegetables from Hawaii and the territories. Those regulations do not apply to articles whose interstate movement is regulated under the subpart governing the interstate movement of soil, sand, earth, and plants in growing media from Hawaii and the territories; we neglected to indicate that in the final rule. In this amendment, we are amending the regulations to clearly indicate that the interstate movement of soil, sand, earth, and plants in growing media is governed by the regulations specific to those articles.

DATES: Effective Date: April 7, 2009.

FOR FURTHER INFORMATION CONTACT: Mr. David Lamb, Import Specialist, Commodity Import Analysis and Operations, PPQ, APHIS, 4700 River Road Unit 133, Riverdale, MD 20737-1231; (301) 734-8758.

SUPPLEMENTARY INFORMATION:

Background

In a final rule that was published in the Federal Register on January 16, 2009 (74 FR 2770-2786, Docket No. APHIS-2007-0052), and effective on February 17, 2009, we revised the regulations in 7 CFR part 318 that govern the interstate movement of fruits and vegetables from Hawaii and the territories. The final rule combined the three subparts in 7 CFR part 318 that governed the interstate movement of fruits, vegetables, cut flowers, and certain other articles from Hawaii, Puerto Rico and the U.S. Virgin Islands, and Guam, respectively, into “Subpart—Regulated Articles From Hawaii and the Territories” (§§ 318.13-1 through 318.13-25) and established provisions for the interstate movement of those articles.

Within that subpart, § 318.13-1(b) contains a general statement that the Secretary of the U.S. Department of Agriculture has determined that it is necessary to prohibit the interstate movement of cut flowers and fruits and vegetables and plants and portions of plants from Hawaii, Puerto Rico, the U.S. Virgin Islands, Guam, and the Commonwealth of the Northern Mariana Islands except as provided in the regulations or as provided in “Subpart—Territorial Cotton, Cottonseed, and Cottonseed Products” (§§ 318.47 through 318.47-4) in 7 CFR part 318. We provided the exception for “Subpart—Territorial Cotton, Cottonseed, and Cottonseed Products” because the interstate movement of those plant parts is regulated under that subpart, rather than under the regulations for the interstate movement of fruits and vegetables.

In addition, the regulations in “Subpart—Sand, Soil, or Earth, with Plants from Territories and Districts” provide for the interstate movement of certain plants—specifically, plants in approved growing media, conditions for whose movement are found in § 318.60(c). Therefore, in the final rule, we should have also included an exception for “Subpart—Sand, Soil, or Earth, with Plants from Territories and Districts” in § 318.13-1(b). We are correcting that error in this technical amendment.

List of Subjects in 7 CFR Part 318

Cotton, Cottonseeds, Fruits, Guam, Hawaii, Plant diseases and pests, Puerto Rico, Quarantine, Transportation, Vegetables, Virgin Islands.

Accordingly, we are amending 7 CFR part 318 as follows:

PART 318—STATE OF HAWAII AND TERRITORIES QUARANTINE NOTICES

1. The authority citation for part 318 continues to read as follows:

Authority: 7 U.S.C. 7701-7772 and 7781-7786; 7 CFR 2.22, 2.80, and 371.3.

2. In § 318.13-1, paragraph (b) is amended by adding the words “and “Subpart—Sand, Soil, or Earth, with Plants from Territories and Districts”” after the word “Products””.

Done in Washington, DC, this 1st day of April 2009.
Kevin Shea,
Acting Administrator, Animal and Plant Health Inspection Service.

[FR Doc. E9-7845 Filed 4-6-09; 8:45 am]

BILLING CODE 3410-34-P